FEDERAL RETIREMENT THRIFT INVESTMENT BOARD

5 CFR Part 1630

Privacy Act Exemptions

AGENCY: Federal Retirement Thrift Investment Board.

ACTION: Final rule.

SUMMARY: In accordance with the Privacy Act of 1974 (the Act) the Federal Retirement Thrift Investment Board (FRTIB) is exempting five systems of records from certain requirements of the Act.

DATES: This final rule is effective October 21, 2021.

FOR FURTHER INFORMATION CONTACT: Dharmesh Vashee, Senior Agency Official for Privacy and General Counsel, Federal Retirement Thrift Investment Board, Office of General Counsel, 77 K Street NE, Suite 1000, Washington, DC 20002, (202) 942-1600.

SUPPLEMENTARY INFORMATION: On August 13, 2021, FRTIB published a notice of proposed rulemaking in the Federal Register, 86 FR 44642, to amend FRTIB's Privacy Act regulations at 5 CFR part 1630 to exempt five of its systems of records, FRTIB-2, FRTIB-13, FRTIB-14, FRTIB-15, and FRTIB-23, from certain requirements of the Privacy Act, 5 U.S.C. 552a. The FRTIB promulgated exemptions to the Privacy Act for these five systems of records in accordance with subsection (k)(2) and subsection (k)(5).

Comments were invited on the notice of proposed rulemaking (NPRM) published on August 13, 2021. No comments were received regarding this proposed rulemaking. The FRTIB will implement the rulemaking as proposed.

Public Comments

FRTIB received no comments on the NPRM.

Regulatory Flexibility Act

FRTIB certifies that this regulation will not have a significant economic impact on a substantial number of small entities under the Regulatory Flexibility Act (5 U.S.C. 601, et seq.). This rule does not impose a requirement for small businesses to report or keep records on any of the requirements contained in this rule. The exemptions to the Privacy Act apply to individuals, and individuals are not covered entities under the Regulatory Flexibility Act.

Paperwork Reduction Act

I certify that these regulations do not require additional reporting under the criteria of the Paperwork Reduction Act.

Unfunded Mandates Reform Act of 1995

Pursuant to the Unfunded Mandates Reform Act of 1995, 2 U.S.C. 602, 632, 653, 1501 1571, the effects of this regulation on state, local, and tribal governments and the private sector have been assessed. This regulation will not compel the expenditure in any one year of $100 million or more by state, local, and tribal governments, in the aggregate, or by the private sector. Therefore, a statement under section 1532 is not required.

Submission to Congress and the Government Accountability Office

Pursuant to 5 U.S.C. 801(a)(1)(A), the Agency submitted a report containing this rule and other required information to the U.S. Senate, the U.S. House of Representatives, and the Comptroller General of the United States before publication of this rule in the Federal Register. This rule is not a major rule as defined at 5 U.S.C. 804(2).

List of Subjects in 5 CFR Part 1630

Privacy.

Ravindra Deo,
Executive Director, Federal Retirement Thrift Investment Board.

Accordingly, FRTIB amends 5 CFR part 1630 as follows:

PART 1630—PRIVACY ACT REGULATIONS

1. The authority citation for part 1630 continues to read as follows:

Authority: 5 U.S.C. 552a.

2. Amend § 1630.15 by revising paragraph (b) to read as follows:

§ 1630.15 Exemptions.

* * * * *

(b) Those designated systems of records which are exempt from the requirements of subsections (c)(3); (d); (e)(1); (e)(4)(G), (H), (I); and (f) of the Privacy Act, 5 U.S.C. 552a, include FRTIB-2, Personnel Security Investigation Files; FRTIB-13, Fraud and Forgery Records; FRTIB-14, FRTIB Legal Case Files; FRTIB-15, Internal Investigations of Harassment and Hostile Work Environment Allegations; and FRTIB-23, Insider Threat Program Records.

* * * * *

[FR Doc. 2021-22952 Filed 10-20-21; 8:45 am]

BILLING CODE 6760-01-P